DEPARTMENT OF LABOR

Employment and Training Administration

[TA-W-83,292]

Advanced Monolythic Ceramics, Inc.; a Division of Johanson Corporation; Including On-Site Leased Workers From Adecco Staffing Olean, New York; Amended Certification Regarding Eligibility To Apply for Worker Adjustment Assistance

In accordance with Section 223 of the Trade Act of 1974, as amended (“Act”), 19 U.S.C. 2273, the Department of Labor issued a Certification of Eligibility To Apply for Worker Adjustment Assistance on February 7, 2014, applicable to workers of Advanced Monolythic Ceramics, Inc., a division of Johanson Corporation, Olean, New York. The Department's notice of determination was published in the Federal Register on February 24, 2014 (79 FR 10189).

At the request of an American Job Center, the Department reviewed the certification for workers of the subject firm. The workers were engaged in activities related to the production of ceramic filters and capacitors.

The company reports that workers leased from Adecco Staffing were employed on-site at the Olean, New York location of Advanced Monolythic Ceramics, Inc., a division of Johanson Corporation. The Department has determined that these workers were sufficiently under the control of the subject firm to be considered leased workers.

Based on these findings, the Department is amending this certification to include workers leased from Adecco Staffing working on-site at the Olean, New York location of Advanced Monolythic Ceramics, Inc., a division of Johanson Corporation.

The amended notice applicable to TA-W-83,292 is hereby issued as follows:

All workers of Adecco Staffing, reporting to Advanced Monolythic Ceramics, Inc., a division of Johanson Corporation, Olean, New York, who became totally or partially separated from employment on or after December 12, 2013 through February 7, 2016, and all workers in the group threatened with total or partial separation from employment on the date of certification through two years from the date of certification, are eligible to apply for adjustment assistance under Chapter 2 of Title II of the Trade Act of 1974, as amended.

Signed in Washington, DC, this 5th day of May, 2014.
Michael W. Jaffe,
Certifying Officer, Office of Trade Adjustment Assistance.

[FR Doc. 2014-11641 Filed 5-20-14; 8:45 am]

BILLING CODE 4510-FN-P